DEPARTMENT OF DEFENSE

Office of the Secretary

Continuing Collection; Comment Request

AGENCY: Office of the Assistant Secretary of Defense (Health Affairs), DoD.

ACTION: Notice.

SUMMARY: In compliance with section 3506(c)(2)(A) of the Paperwork Reduction Act of 1995, the Office of the Assistant Secretary of Defense (Health Affairs) announces the extension of a currently approved collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including the use of automated collection techniques or other forms of information technology.

DATES: Comments and recommendations should be received on or before April 2, 2002.

ADDRESSES: Written comments and recommendations on the continuing information collection should be sent to the TRICARE Management Activity, Special Contracts & Operations Office, Attn: Terri Katsouranis, 16401 East Centretech Parkway, Aurora, CO 80011-9043.

FOR FURTHER INFORMATION CONTACT: To request more information on the continuation of this information collection, please write to the above address or contact Terri Katsouranis by calling (303) 676-3444 or email at terri.katsouranis@tma.osd.mil.

Title, Associated Form and OMB Number: Continued Health Care Benefit Program (CHCBP) Application Form DD 2837; OMB Number 0704-0364.

Needs and Uses: The continuing information collection requirement is necessary for individuals to apply for enrollment in the Continued Health Care Benefit Program (CHCBP). The CHCBP is a program of temporary health care benefit coverage that is made available to eligible individuals who lose health care under the Military Health System.

Affected Public: Individuals.

Annual Burden Hours: 202.

Number of Respondents: 808.

Responses Per Respondent: 1.

Average Burden Per Response: 15 minutes.

Frequency: On Occasion.

SUPPLEMENTARY INFORMATION:

Summary of Information Collection

Respondents are individuals who are or were beneficiaries of the Military Health System (MHS) and who desire to enroll in the CHCBP following their loss of entitlement to health care coverage in the MHS. These beneficiaries include the active duty service member or former service member (who for purposes of this notice shall be referred to as “service member”), an unmarried child of a service member who cease to meet the requirements for being considered a dependent, and a child placed for adoption or legal custody with the service member.

In order to be eligible for health care coverage under CHCBP, an individual must first enroll in CHCBP. DD Form 2837 is used as the information collection vehicle for that enrollment. The CHCBP is a legislatively mandated program and it is anticipated the program will continue indefinitely. As such, the need for collecting information that will allow an individual to enroll in CHCBP continues and the Department of Defense is thus publishing this formal notice.

Dated: January 25, 2002.
Patricia L. Toppings,
Alternate OSD Federal Register Liaison Officer, Department of Defense.

[FR Doc. 02-2471 Filed 1-31-02; 8:45 am]

BILLING CODE 5001-08-M